DEPARTMENT OF COMMERCE

National Oceanic and Atmospheric Administration

RIN 0648-XE751

Caribbean Fishery Management Council; Public Hearings

AGENCY: National Marine Fisheries Service (NMFS), National Oceanic and Atmospheric Administration (NOAA), Commerce.

ACTION: Notice of public hearings on Amendments to the U.S. Caribbean Reef Fish, Spiny Lobster, and Corals and Reef Associated Plants and Invertebrates Fishery Management Plans: Timing of Accountability Measure-Based Closures in the U.S. Caribbean Draft Document.

SUMMARY: The Caribbean Fishery Management Council will hold public hearings on the Amendments to the U.S. Caribbean Reef Fish, Spiny Lobster, and Corals and Reef Associated Plants and Invertebrates Fishery Management Plans: Timing of Accountability Measure-Based Seasonal Closures Including Draft Environmental Assessment: Amendment 8 to the Fishery Management Plan for the Reef Fish Fishery of Puerto Rico and the U.S. Virgin Islands, Amendment 7 to the Fishery Management Plan for the Spiny Lobster of Puerto Rico and the U.S. Virgin Islands, Amendment 6 to the Fishery Management Plan for the Corals and Reef Associated Plants and Invertebrates of Puerto Rico and the U.S. Virgin Islands. The complete document is available upon request and can be found at the Caribbean Council's Web site: www.caribbeanfmc.com.

DATES and ADDRESSES: The dates and locations for the public hearings are:

August 15, 2016, Doubletree Hotel, De Diego Avenue, Condado, San Juan, Puerto Rico, from 7 p.m. to 9 p.m.

August 17, 2016, Mayagüez Holiday Inn Hotel, Mayagüez Holiday Inn, 2701 Hostos Avenue, Mayagüez, Puerto Rico, from 7 p.m. to 9 p.m.

FOR FURTHER INFORMATION CONTACT: Caribbean Fishery Management Council, 270 Muñoz Rivera Avenue, Suite 401, San Juan, Puerto Rico 00918-1903, telephone (787) 766-5926.

SUPPLEMENTARY INFORMATION: The proposed actions are to modify the timing for the application of accountability measures in the Reef Fish, Spiny Lobster, and Corals and Reef Associated Plants and Invertebrates Fishery Management Plans of Puerto Rico and the U.S. Virgin Islands. The Amendment contains the following Actions and Alternatives:

ACTION 1: Modify the timing for the implementation of AM-based closures in the U.S. Caribbean EEZ.

Alternative 1: No Action. Continue AM-based closures resulting from an annual catch limit (ACL) overage, ending on December 31st of the closure year, and extending backward into the closure year for the number of days necessary to achieve the required reduction in landings.

Alternative 2 (Preferred): Accountability measure-based closures resulting from an ACL overage would end on September 30th of the closure year and extend backward toward the beginning of the year for the number of days necessary to achieve the required reduction in landings. The September 30th closure date would apply to all fishery management units (FMUs) for each of the Puerto Rico commercial and recreational sectors, St. Thomas/St. John, St. Croix, and Caribbean-wide. If Alternative 5 of this Action is also chosen for an FMU that includes species with seasonal closures in federal waters, closure dates for that FMU would be governed by Alternative 5. If, for any of the FMUs covered by Alternative 2, the number of available days running from September 30th backward to the beginning of the year is not enough to achieve the required reduction in landings, then the additional days needed would be captured by extending the closure forward toward the end of the year, beginning on October 1st and continuing for the number of days needed to achieve the required reduction.

Alternative 3: Accountability measure-based closures resulting from an ACL overage would begin on January 1st of the closure year and extend forward into the year for the number of days necessary to achieve the required reduction in landings. The January 1st closure start date would apply to all FMUs for each of Puerto Rico commercial and recreational sectors, St. Thomas/St. John, St. Croix, and Caribbean-wide. If Alternative 5 of this Action is also chosen for an FMU that includes species with seasonal closures in federal waters, closure dates for that FMU would be governed by Alternative 5.

Alternative 4: Establish a fixed fishing closure end date for the implementation of AMs for each FMU by island management area and, in the case of Puerto Rico, fishing sector (A. Puerto Rico (I. Commercial sector [The Puerto Rico spiny lobster FMU is addressed under the Commercial Sector sub-alternatives. This is because the spiny lobster ACL is governed by commercial landings. If the AM is triggered due to a Puerto Rico spiny lobster ACL overage, the commercial and recreational fishing season is reduced.] II. Recreational sector), B. St. Thomas/St. John, C. St. Croix, and D. Caribbean-wide), based on the highest or lowest average monthly landings of the most recent three years of available data (2012, 2013, 2014). A different closure date may be chosen for each FMU for each island management area and Puerto Rico fishing sector. The closure date will end on the last day of the identified month and extend backward toward the beginning of the year for the number of days necessary to achieve the required reduction in landings. If, for any FMU in any year, the number of available days running from the closure implementation date backward toward the beginning of the year is not enough to achieve the required reduction in landings, then the additional days needed would be captured by extending the closure forward toward the end of the year and continuing for the number of days needed to achieve the required reduction.

A. Puerto Rico

I. Commercial

Sub-Alternative 4a. Closure to end the last day of the month that has the highest landings based on monthly average landings through time, using 2012-2014 as the most recent three years of available landings data.

Sub-Alternative 4b. Closure to end the last day of the month with lowest landings based on monthly average landings through time, using 2012-2014 as the most recent three years of available landings data.

II. Recreational

Sub-Alternative 4c. Closure to end the last day of the second month that has the highest landings based on bi-monthly average landings through time, using 2012-14 as the most recent three years of available landings data.

Sub-Alternative 4d. Closure to end the last day of the second month with lowest landings based on bi-monthly average landings through time, using 2012-14 as the most recent three years of available landings data.

B. St. Thomas/St. John, USVI (All Sectors)

Sub-Alternative 4e. Closure to end the last day of the month that has the highest landings based on monthly average landings through time, using 2012-14 as the most recent three years of available landings data.

Sub-Alternative 4f. Closure to end the last day of the month with the lowest landings based on monthly average landings through time, using 2012-14 as the most recent three years of available landings data.

C. St. Croix, USVI (All Sectors)

Sub-Alternative 4g. Closure to end the last day of the month that has the highest landings based on monthly average landings through time, using 2012-2014 as the most recent three years of available landings data.

Sub-Alternative 4h. Closure to end the last day of the month with the lowest landings based on monthly average landings through time, using 2012-2014 as the most recent three years of available landings data.

D. Caribbean-Wide (All Sectors)

Sub-Alternative 4i. Closure to end the last day of the month that has the highest landings based on monthly average landings through time, using 2012-14 as the most recent three years of available landings data.

Sub-Alternative 4j. Closure to end the last day of the month with the lowest landings based on monthly average landings through time using 2012-14 as the most recent three years of available landings data.

Alternative 5: For FMUs that include species with seasonal closures in U.S. Caribbean federal waters (Table 2.2.6 in the document), AM-based closures resulting from an ACL overage for these FMUs would be timed to be continuous with the seasonal closure. The AM-based closure would extend either forward or backward from the seasonal closure into the year as specified in Sub-Alternatives 5a through 5n for the number of days necessary to achieve the required reduction in landings. If, for any of these FMUs, in any year, the number of available days running from the date specified by the sub-alternative, is not enough to achieve the required reduction in landings, then the additional days needed would be captured by extending the closure in the opposite direction and continuing for the number of days needed to fulfill the required reduction.

I. Groupers

A. Puerto Rico

1. Commercial

Sub-Alternative 5a: For the commercial sector of the Puerto Rico management area, an AM-based closure for the grouper complex would start on May 1st of the closure year and move forward toward the end of the year.

Sub-Alternative 5b: For the commercial sector of the Puerto Rico management area, an AM-based closure for the grouper complex would end on November 30th of the closure year and move backward toward the beginning of the year.

2. Recreational

Sub-Alternative 5c: For the recreational sector of the Puerto Rico management area, an AM-based closure for the grouper complex would start on May 1st of the closure year and move forward toward the end of the year.

Sub-Alternative 5d: For the recreational sector of the Puerto Rico management area, an AM-based closure for the grouper complex would end on November 30th of the closure year and move backward toward the beginning of the year.

B. St. Thomas/St. John, USVI (All Sectors)

Sub-Alternative 5e: For the St. Thomas/St. John management area, an AM-based closure for the grouper complex would start on May 1st of the closure year and move forward toward the end of the year.

C. St. Croix, USVI (All Sectors)

Sub-Alternative 5f: For the St. Croix management area, an AM-based closure for the grouper complex would start on May 1st of the closure year and move forward toward the end of the year.

II. Snappers

A. Puerto Rico

1. Commercial

Sub-Alternative 5g: For the commercial sector of the Puerto Rico management area, an AM-based closure for all snapper species in Snapper Unit 3 (SU3) would start on July 1st of the closure year and move forward toward the end of the year.

Sub-Alternative 5h: For the commercial sector of the Puerto Rico management area, an AM-based closure for all snapper species in Snapper Unit 1 (SU1) would end on September 30th of the closure year and move backward toward the beginning of the year.

2. Recreational

Sub-Alternative 5i: For the recreational sector of the Puerto Rico management area, an AM-based closure for all snapper species in SU3 would start on July 1st of the closure year and move forward toward the end of the year.

Sub-Alternative 5j: For the recreational sector of the Puerto Rico management area, an AM-based closure for all snapper species in SU1 would end on September 30th of the closure year and move backward toward the beginning of the year.

B. St. Thomas/St. John, USVI (All Sectors)

Sub-Alternative 5k: For the St. Thomas/St. John management area, an AM-based closure the snapper complex would start on July 1st of the closure year and move forward toward the end of the year.

Sub-Alternative 5l: For the St. Thomas/St. John management area, an AM-based closure for the snapper complex would end on September 30th of the closure year and move backward toward the beginning of the year.

C. St. Croix, USVI (All Sectors)

Sub-Alternative 5m: For the St. Croix management area, an AM-based closure for the snapper complex would start on July 1st of the closure year and move forward into the year.

Sub-Alternative 5n: For the St. Croix management area, an AM-based closure for the snapper complex would end on September 30th of the closure year and move backward toward the beginning of the year.

Action 2: Specify a time period for revisiting the approach to establish AM-based closures selected in Action 1.

Alternative 1. No action. Do not specify how often the approach chosen should be revisited.

Alternative 2 (Preferred). Revisit the approach selected no longer than 2 years from implementation and every 2 years thereafter.

Alternative 3. Revisit the approach selected no longer than 5 years from implementation and every 5 years thereafter.

Additional Information: Written comments can be sent to Dr. Graciela García-Moliner by email at graciela_cfmc@yahoo.com or by regular mail to Caribbean Fishery Management Council, 270 Muñoz Rivera Avenue, Suite 401, San Juan, Puerto Rico 00918, no later than August 22, 2016.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: July 19, 2016.
Tracey L. Thompson,
Acting Deputy Director, Office of Sustainable Fisheries, National Marine Fisheries Service.

[FR Doc. 2016-17380 Filed 7-21-16; 8:45 am]

BILLING CODE 3510-22-P